DEPARTMENT OF COMMERCE

Bureau of Industry and Security

Submission for OMB Review; Comment Request

The Department of Commerce will submit to the Office of Management and Budget (OMB) for clearance the following proposal for collection of information under the provisions of the Paperwork Reduction Act (44 U.S.C. Chapter 35).

Agency: Bureau of Industry and Security.

Title: License Transfer and Duplicate License Services.

OMB Control Number: 0694-0126.

Form Number(s): N/A.

Type of Request: Regular.

Burden Hours: 38 hours.

Number of Respondents: 110 respondents.

Average Hours per Response: 16 to 66 minutes per response.

Needs and Uses: This collection is needed to provide services to exporters who have either lost their original license and require a duplicate, or who wish to transfer their ownership of an approved license to another party.

Affected Public: Businesses and other for-profit institutions.

Frequency: On occasion.

Respondent's Obligation: Required to obtain benefits.

This information collection request may be viewed at www.reginfo.gov. Follow the instructions to view the Department of Commerce collections currently under review by OMB.

Written comments and recommendations for the proposed information collection should be sent within 30 days of publication of this notice to OIRA Submission@omb.eop.gov or fax to (202) 395-5806.

Dated: October 1, 2015.
Glenna Mickelson,
Management Analyst, Office of the Chief Information Officer.

[FR Doc. 2015-25368 Filed 10-5-15; 8:45 am]

BILLING CODE 3510-33-P